SMALL BUSINESS ADMINISTRATION

[Declaration of Disaster #3558, Amdt. 3]

State of West Virginia

In accordance with a notice received from the Department of Homeland Security—Federal Emergency Management Agency, effective November 30, 2003, the above numbered declaration is hereby amended to establish the incident period for this disaster as beginning on November 11, 2003, and continuing through November 30, 2003.

All other information remains the same, i.e., the deadline for filing applications for physical damage is January 20, 2004, and for economic injury the deadline is August 23, 2004.

(Catalog of Federal Domestic Assistance Program Nos. 59002 and 59008.)
Dated: December 3, 2003.
Herbert L. Mitchell,
Associate Administrator for Disaster Assistance.

[FR Doc. 03-30429 Filed 12-8-03; 8:45 am]

BILLING CODE 8025-01-P